DEPARTMENT OF ENERGY

Federal Energy Regulatory Commission

[Docket No. GT01-35-000]

ANR Pipeline Company; Notice of Tariff Filing

October 4, 2001.

Take notice that on September 28, 2001, ANR Pipeline Company (ANR) filed two service agreements entered into between ANR and Midland Cogeneration Venture Limited Partnership (“MCV”) under Rate Schedule FTS-1. ANR requests the Commission to find that the Agreements do not contain any material deviations from ANR's Form of Service Agreement, and that the Agreements need not be filed pursuant to section 154.112(b) of the Commission's regulations. Alternatively, if the Commission finds that the Agreements contain a material deviation from ANR's Form of Service Agreement, ANR requests the Commission to approve the Agreements and accept Fifth Revised Sheet No. 190 of ANR's Second Revised Volume No. 1, which references the Agreements, as non-conforming agreements.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25493 Filed 10-10-01; 8:45 am]

BILLING CODE 6717-01-P